DEPARTMENT OF ENERGY

Federal Energy Regulatory Commission

[Docket No. CP05-91-000]

Calhoun LNG, L.P.; Notice of Technical Conference

November 1, 2005.

On Tuesday, November 15, 2005, at 8:30 a.m. (CST), staff of the Office of Energy Projects will convene a cryogenic design and technical conference regarding the proposed Calhoun LNG Project. The cryogenic conference will be held in the Bauer Community Center. The community center is located at 2300 North Highway 35, Port Lavaca, TX 77979. For center details call (361) 552-1234.

In view of the nature of critical energy infrastructure information and security issues to be explored, the cryogenic conference will not be open to the public. Attendance at this conference will be limited to existing parties to the proceeding (anyone who has specifically requested to intervene as a party) and to representatives of interested Federal, State, and local agencies. Any person planning to attend the November 15th cryogenic conference must register by close of business on Thursday, November 10, 2005. Registrations may be submitted either online at http://www.ferc.gov/whats-new/ registration/cryo-conf-form.asp or by faxing a copy of the form (found at the referenced online link) to (202) 208-0353. All attendees must sign a non-disclosure statement prior to entering the conference. Upon arrival at the community center, check the reader board in the lobby area for the venue. For additional information regarding the cryogenic conference, please contact Ghanshyam Patel at (202) 502-6431.

Magalie R. Salas,
Secretary.

[FR Doc. E5-6152 Filed 11-4-05; 8:45 am]

BILLING CODE 6717-01-P